DEPARTMENT OF THE INTERIOR

Minerals Management Service

Notice of the Dates, Times, and Locations of Public Hearings on the Draft Environmental Impact Statement (EIS) for the Proposed 5-Year Outer Continental Shelf (OCS) Oil and Gas Leasing Program for 2002 to 2007

AGENCY: Minerals Management Service, Interior.

ACTION: Announcing the dates, times, and locations of public hearings on the Draft EIS for the Proposed OCS 5-Year Oil and Gas Leasing Program for 2002 to 2007.

SUMMARY: The MMS has prepared a draft EIS on the Proposed 5-Year OCS Oil and Gas Leasing Program for 2002 to 2007 pursuant to section 102(2)(C) of the National Environmental Policy Act of 1969. Public hearings will be held in Alaska, Texas, Louisiana, and Alabama to receive comments from the public on the contents of the EIS.

DATES: Public hearings are scheduled for the following dates and times at the following locations:

December 3, 2001

Anchorage, Alaska from 7 to 10 PM in the Wilda Marston Theater, ZJ Loussac Public Library, phone contact: Robin Cacy at (907) 271-6070.

December 4, 2001

Soldotna, Alaska from 7 to 10 PM in the Kenai Peninsula Borough Conference Room, phone contact: Robin Cacy at (907) 271-6070;

Kotzebue, Alaska from 7 to 10 PM in the North West Arctic Borough Assembly Room, phone contact: Robin Cacy at (907) 271-6070.

December 5, 2001

Homer, Alaska from 7 to 10 PM in the Homer City Council Chamber, 491 E. Pioneer Avenue, phone contact: Robin Cacy at (907) 271-6070;

Nome, Alaska from 7 to 10 PM at the North West Campus, University of Alaska Fairbanks, phone contact: Robin Cacy at (907) 271-6070.

December 7, 2001

Kodiak, Alaska from 7 to 10 PM in the Kodiak Island Borough Assembly Chambers, phone contact: Robin Cacy at (909) 271-6070;

Barrow, Alaska from 7 to 10 PM in the North Slope Borough Assembly Room, phone contact: Robin Cacy at (907) 271-6070.

December 10, 2001

Houston, Texas from 1 to 3 PM at the Houston Airport Marriott, 18700 Kennedy Boulevard, phone contact: Janet Diaz at (504) 736-2540.

December 11, 2001

New Orleans, Louisiana from 1 to 3 PM at the Minerals Management Service, 1201 Elmwood Park Boulevard, phone contact: Janet Diaz at (504) 736-2540.

December 12, 2001

Mobile, Alabama from 1 to 3 PM and 6:30 to 8:30 PM at the Adams Mark Hotel, 64 South Water Street, phone contact; Janet Diaz at (504) 736-2540.

FOR FURTHER INFORMATION CONTACT: Mr. Richard Wildermann, Minerals Management Service, Branch of Environmental Assessment, at (703) 787-1670.

SUPPLEMENTARY INFORMATION: Interested individuals, representatives of organizations, and public officials who wish to testify at the hearings are requested to contact the person listed as the contact for the hearing at the particular location they wish to attend at least 5 days prior to the hearings. Time limitations may make it necessary to limit the length of each oral presentation to 10 minutes or less. An oral statement may be supplemented, however, by a more complete written statement that should be submitted to the hearing panel at the time of the oral presentation. After the presentation of oral statements by those who have pre-registered, if time is still available other individuals will be given an opportunity to be heard. Each hearing will begin at the specified time and will recess when all speakers have had an opportunity to testify. If there are no additional speakers, the hearing will adjourn immediately after the recess. Written comments on the draft EIS, including comments from individuals unable to present oral statements or to attend the hearings, will be accepted until January 24, 2002.

ADDRESSES: Comments on the draft EIS and written materials prepared as part of testimony at the public hearings should be mailed to the Minerals Management Service, Attention: Mr. Richard Wildermann, 381 Elden Street, Mail Stop 4042, Herndon, Virginia 20170-4817. Hand deliveries may be made to the Department of the Interior, Main Interior Building, 1849 C Street, NW., Room 4227, Washington, DC 20240. Envelopes or packages should be marked “2002-2007 OCS Oil and Gas Program Draft EIS.” The MMS will also accept comments submitted by e-mail to MMS5-year.eis@mms.gov.

Public Comment Procedures: Our practice is to make comments, including the names and home addresses of respondents, available for public review. An individual commenter may ask that we withhold name, home address, or both from the public record, and we will honor such a request to the extent allowable by law. If you submit comments and wish us to withhold such information, you must state so prominently at the beginning of your submission. We will not consider anonymous comments, and we will make available for inspection in their entirety all comments submitted by organizations and businesses or by individuals identifying themselves as representatives of organizations and businesses.

After the public hearing testimony and written comments on the draft EIS have been reviewed and analyzed, a final EIS will be prepared. The comment period for the draft EIS closes January 24, 2002.

Dated: October 18, 2001.
Thomas A. Readinger,
Acting Associate Director for Offshore Minerals Management.

[FR Doc. 01-27034 Filed 10-25-01; 8:45 am]

BILLING CODE 4310-MR-P